DEPARTMENT OF ENERGY

Federal Energy Regulatory Commission

[Project No. 1494-172; Oklahoma]

Grand River Dam Authority; Notice of Availability of Final Environmental Assessment

July 6, 2000.

In accordance with the National Environmental Policy Act of 1969 and the Federal Energy Regulatory Commission's regulations, 18 CFR part 380 (Order No. 486, 53 FR 47910), the Office of Energy Projects has prepared a mail environmental assessment (FEA) on the Grand River Dam Authority's application for approval of a new commercial dock facility. The Grand River Dam Authority proposes to permit Lewis Perrault, d/b/a/ Lewie Development Company (permittee), to construct and operation a commercial dock facility on Grand Lake's Grand Craft Cove, about 2 miles from the Pensacola dam. The proposed facility includes nine boat slips and an area for temporary boat mooring and will be used in conjunction with the permittee's planned commercial development on his adjoining property. The Pensacola Project is on the Grand River, in Craig, Delaware, Mayes, and Ottawa Counties, Oklahoma.

The FEA is attached to a Commission order issued on June 27, 2000 for the above application. Copies of the FEA can be obtained by calling the Commission's Public Reference Room at (202) 208-1371. Copies of the FEA can also be obtained through the Commission's homepage at http://www.ferc.fed.us. In the FEA, staff concludes that approval of the licensee's proposal would not constitute a major Federal action significantly affecting the quality of the human environment.

David P. Boergers,
Secretary.

[FR Doc. 00-17550 Filed 7-11-00; 8:45 am]

BILLING CODE 6717-01-M